DEPARTMENT OF HOMELAND SECURITY

Coast Guard

[Docket No. CGD08-07-021]

Proposed Bridge Over the Amite River Diversion Canal, Mile 3.37, Near Head of Island, Livingston Parish, LA

AGENCY: Coast Guard, DHS.

ACTION: Notice of public hearing.

SUMMARY: The Coast Guard will hold a public hearing to receive comments on the proposed bridge across the Amite River Diversion Canal, mile 3.37, located in Sections 32 and 33, Township 9 South, Range 4 West, near Head of Island, Livingston Parish, Louisiana. The hearing will focus on the issue concerning the vertical clearance of the proposed bridge, which will measure 22.4 feet at Mean High Water, elevation 3.0 feet National Geodetic Vertical Datum (NGVD). Comments regarding impacts that the proposed bridge project may have on navigation of the Amite River Diversion Canal and the environment will be of particular relevance to the Coast Guard's bridge permitting responsibilities.

DATES: This hearing will be held on Thursday, October 11, 2007, from 7 p.m. to 9 p.m. The meeting will close early if all business is finished. Attendees at the hearing who wish to present testimony and have not previously made a request to do so, will follow those having submitted a request, as time permits. Written material and requests to make oral comment must be received by the Bridge Administrator at the address given under ADDRESSES on or before October 10, 2007.

ADDRESSES: The hearing will be held at the St. Amant Primary School at 44365 Highway 429, St. Amant, LA. Send written material and requests to make oral comment to Mr. David Frank, Bridge Administrator, Commander (dpb), Eighth Coast Guard District, Hale Boggs Federal Building, 500 Poydras Street, New Orleans, LA 70130.

Commander (dpb) maintains the public docket and comments and material received from the public will become part of docket [CGD08-07-021] and will be available for inspection or copying at the above address between 8 a.m. and 4:30 p.m., Monday through Friday, except Federal holidays.

FOR FURTHER INFORMATION CONTACT: If you have questions regarding this notice or the proposed project, call Mr. David Frank, Eighth Coast Guard District, Bridge Administrator, telephone (504) 671-2128.

SUPPLEMENTARY INFORMATION:

Proposed Action

The Amite River Diversion Canal bridge will provide access to the properties of Blind River Properties, Inc. (BRP) for development of additional residential lots. The proposed alternative will use an existing access road, Home Port Drive, to reach the selected site of the proposed bridge, which is located on BRP property including the water bottom of the Amite River Diversion Canal. The proposed bridge location and approaches were selected from other alternatives to minimize damages to the environment, residences, and commercial businesses.

The proposed bridge has a vertical clearance of 22.4 feet at Mean High Water, elevation 3.0 feet NGVD to ensure adequate clearance for all but one vessel currently using this portion of the Amite River Diversion Canal. All other boats moored between the Highway 22 Bridge and the proposed bridge can navigate through the proposed clearance. Any addition to the vertical clearance would require significant wetland impacts from the bridge approaches based on their design criteria. BRP offered a mitigation package to the single vessel owner but this package was refused. The largest commercial tow company using the Amite River Diversion Canal on a routine basis does not object to the proposed bridge. Larger commercial tows have not existed on the Amite River Diversion Canal in almost two decades.

Procedural

All interested parties will have an opportunity to be heard and to present evidence regarding the impacts of the proposed bridge project. Written statements and other exhibits in lieu of, or in addition to, oral statements at the hearing must be submitted to the Bridge Administrator at the address listed under ADDRESSES on or before October 10, 2007, to be included in the Public Hearing transcript.

Comments, including names, may be published as part of the Final Environmental Assessment. All submissions will be available for public inspection in their entirety.

Information on Services for Individuals With Disabilities

For information about facilities or services for individuals with disabilities or to request special assistance at the meeting, contact the Commander (dpb), Eighth Coast Guard District. Please request these services by contacting the Bridge Administrator at the phone number under FOR FURTHER INFORMATION CONTACT or in writing at the address listed under ADDRESSES. Any requests for an oral or sign language interpreter must be received as soon as possible.

Dated: September 4, 2007.
Hala Elgaaly,
Chief, Office of Bridge Administration, U.S. Coast Guard.

[FR Doc. E7-17801 Filed 9-10-07; 8:45 am]

BILLING CODE 4910-15-P